DEPARTMENT OF TRANSPORTATION

Federal Aviation Administration

14 CFR Part 39

[Docket No. 2000-CE-34-AD; Amendment 39-11964; AD 2000-22-17]

RIN 2120-AA64

Airworthiness Directives; SOCATA—Groupe AEROSPATIALE Models MS 880B, MS 885, MS 892A-150, MS 892E-150, MS 893A, MS 893E, MS 894A, MS 894E, Rallye 100S, Rallye 150T, Rallye 150ST, Rallye 235C, and Rallye 235E Airplanes

AGENCY: Federal Aviation Administration, DOT.

ACTION: Final rule.

SUMMARY: This amendment adopts a new airworthiness directive (AD) that applies to all SOCATA—Groupe AEROSPATIALE (Socata) Models MS 880B, MS 885, MS 892A-150, MS 892E-150, MS 893A, MS 893E, MS 894A, MS 894E, Rallye 100S, Rallye 150T, Rallye 150ST, Rallye 235C, and Rallye 235E airplanes. This AD requires you to repetitively inspect, and, if necessary, replace elevator clevis and rudder governor control clevis that are too thin. This AD is the result of mandatory continuing airworthiness information (MCAI) issued by the airworthiness authority for France. The actions specified in this AD are intended to correct rudder and elevator control clevis that are too thin because of abnormal wear, with consequent failure of the rudder and elevator clevis. Such failure could lead to loss of directional or pitch control.

DATES: This AD becomes effective on December 29, 2000.

The Director of the Federal Register approved the incorporation by reference of certain publications listed in the regulations as of December 29, 2000.

ADDRESSES: You may get the service information referenced in this AD from SOCATA Groupe AEROSPATIALE, Customer Support, Aerodrome Tarbes-Ossun-Lourdes, BP 930—F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 894-1160; facsimile: (954) 964-4191. You may examine this information at the Federal Aviation Administration (FAA), Central Region, Office of the Regional Counsel, Attention: Rules Docket No. 2000-CE-34-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Events Have Caused This AD?

The Direction Générale de l'Aviation Civile (DGAC), which is the airworthiness authority for France, recently notified the FAA that an unsafe condition may exist on all Socata Models MS 880B, MS 885, MS 892A-150, MS 892E-150, MS 893A, MS 893E, MS 894A, MS 894E, Rallye 100S, Rallye 150T, Rallye 150ST, Rallye 235C, and Rallye 235E airplanes. The DGAC reports one failure of the rudder clevis in a Rallye airplane in flight. Abnormal wear of the part resulted in the failure.

What Happens if You Do Not Correct the Condition?

This condition, if not corrected, could result in failure of the rudder and elevator clevis and consequent loss of directional or pitch control.

Has FAA Taken Any Action to This Point?

We issued a proposal to amend part 39 of the Federal Aviation Regulations (14 CFR part 39) to include an AD that would apply to all Socata Models MS 880B, MS 885, MS 892A-150, MS 892E-150, MS 893A, MS 893E, MS 894A, MS 894E, Rallye 100S, Rallye 150T, Rallye 150ST, Rallye 235C, and Rallye 235E airplanes. This proposal was published in the Federal Register as a notice of proposed rulemaking (NPRM) on September 11, 2000 (65 FR 54820). The NPRM proposed to require you to repetitively inspect the elevator and rudder governor control clevis, and, if necessary, replace any clevis that is too thin.

Was the Public Invited To Comment?

Interested persons were afforded an opportunity to participate in the making of this amendment. No comments were received on the proposed rule or the FAA's determination of the cost to the public.

The FAA's Determination

What Is FAA's Final Determination on This Issue?

After careful review of all available information related to the subject presented above, we have determined that air safety and the public interest require the adoption of the rule as proposed except for minor editorial corrections. We determined that these minor corrections:

—Will not change the meaning of the AD; and

—Will not add any additional burden upon the public than was already proposed.

Cost Impact

How Many Airplanes Does This AD Impact?

We estimate that this AD affects 81 airplanes in the U.S. registry.

What Is the Cost Impact of This AD on Owners/Operators of the Affected Airplanes?

We estimate the following costs to accomplish each inspection and possible replacement and lubrication:

Labor cost | Parts cost | Total cost per airplane | Total cost on U.S. airplane operators
4 workhours $60 per hour = $240 | $24 per airplane if clevis replacement is necessary | $264 per airplane | $264 × 81 = $21,384.

These actions are repetitive. We have no way of determining how many of these repetitive actions each owner/operator may incur over the life of each airplane.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-22-17 Socata—Groupe Aerospatiale: Amendment 39-11964; Docket No. 2000-CE-34-AD.

(a) What airplanes are affected by this AD? This AD affects the following airplane models, all serial numbers, certificated in any category:

MS 880B

MS 892E-150

MS 894A

Rallye 150T

Rallye 235E

MS 885

MS 893A

MS 894E

Rallye 150ST

MS 892A-150

MS 893E

Rallye 100S

Rallye 235C

(b) Who must comply with this AD? Anyone who wishes to operate any of the above airplanes must comply with this AD.

(c) What problem does this AD address? The actions specified by this AD are intended to correct rudder clevis and elevator control clevis that are too thin because of abnormal wear, and the consequent failure of the rudder and elevator clevis. Such failure could lead to loss of directional or pitch control.

(d) What actions must I accomplish to address this problem? To address this problem, you must accomplish the following actions:

Actions | Compliance times | Procedures
(1) Inspect the elevator and rudder control clevis for abnormal wear. Measure clevis thickness. The thickness at the bent section should be at least 0.043 inch (in)/1.1 millimeter (mm) | Within the next 100 hours time-in-service (TIS) after December 29, 2000 (the effective date of this AD), and thereafter at intervals not to exceed 600 hours TIS | Do this inspection in accordance with the ACCOMPLISHMENT INSTRUCTIONS of Socata Mandatory Service Bulletin SB 155-27, dated April 2000.
(2) If, during inspection, the elevator or rudder control clevis measures a thickness less than 0.043 in/1.1 mm, replace the clevis | Before further flight after the inspection where abnormal wear was found | Do this section in accordance with the ACCOMPLISHMENT INSTRUCTIONS of Socata Mandatory Service Bulletin SB 155-27, dated April 2000.
(3) Lubricate the clevis | Within the next 100 hours TIS after December 29, 2000 (the effective date with the of this AD), and thereafter at intervals not to exceed 100 hours TIS | Do this action in accordance with the ACCOMPLISHMENT INSTRUCTIONS of Socata Mandatory Service Bulletin SB 155-27, dated April 2000.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Karl Schletzbaum, Aerospace Engineer, FAA, Small Airplane Directorate, 901 Locust, Room 301, Kansas City, Missouri 64016; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Socata Mandatory Service Bulletin SB 155-27, dated April, 2000. The Director of the Federal Register approved this incorporation by reference under 5 U.S.C. 552(a) and 1 CFR part 51. You can get copies from SOCATA Groupe AEROSPATIALE, Customer Support, Aerodrome Tarbes-Ossun-Lourdes, BP 930—F65009 Tarbes Cedex, France; telephone: (33) (0)5.62.41.73.00. You can look at copies at the FAA, Central Region, Office of the Regional Counsel, 901 Locust, Room 506, Kansas City, Missouri, or at the Office of the Federal Register, 800 North Capitol Street, NW, suite 700, Washington, DC.

(i) When does this amendment become effective? This amendment becomes effective on December 29, 2000.

Note 2: The subject of this AD is addressed in French AD number 2000-174(A), dated May 3, 2000.

Issued in Kansas City, Missouri, on October 30, 2000.
Marvin R. Nuss,
Acting Manager, Small Airplane Directorate, Aircraft Certification Service.

[FR Doc. 00-28439 Filed 11-13-00; 8:45 am]

BILLING CODE 4910-13-P